DEPARTMENT OF HEALTH AND HUMAN SERVICES

Centers for Disease Control and Prevention

[60Day-07-0028]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Customer Satisfaction with the Agency for Toxic Substances and Disease Registry Internet Home Page and Links (OMB No. 0923-0028)—Extension—Agency for Toxic Substances and Disease Registry (ATSDR), Centers for Disease Control and Prevention (CDC).

Background and Brief Description

ATSDR considers evaluation to be a critical component for enhancing program effectiveness and improving resource management. ATSDR's mandate under the Comprehensive Environmental Response, Compensation, and Liability Act (CERCLA), as amended, is to assess the presence and nature of health hazards at specific Superfund sites. To help prevent or reduce further exposure and the illnesses that result from such exposures. ATSDR, the lead Agency within the Public Health Service for implementing the health-related provisions of CERCLA and its 1986 amendments, the Superfund Amendments and Re-authorization Act (SARA), ATSDR received additional responsibilities in environmental public health. This act broadened ATSDR's responsibilities in the areas of health assessments, establishment and maintenance of toxicologic databases, information dissemination, and medical education. Furthermore, in accordance with the Government Performance and Results Act of 1993 (Pub. L. 103-62), the e-Government Act of 2002, and the Federal Enterprise Architecture are key elements of the Presidents Management Agenda. These “e-government” initiatives have required staff at all levels of the Federal government with the improvement of program effectiveness and public accountability by promoting new focuses on results, service quality, and customer satisfaction. These staff are further charged with responsibility to articulate clearly the results of their programs in terms that are understandable to their customers, their stakeholders, and the American taxpayer. This project addresses these concerns and serves to improve ATSDR's health promotion agenda by providing data on which to assess and improve the usefulness and usability of information provided via Internet.

ATSDRs extension (continuation) efforts will follow the guidance articulated in our reinstatement application submitted and approved in 2003. Our current survey, the “ATSDR Web Site User Satisfaction Survey,” was combined in the past under project 0920-0449 “Evaluation of Customer Satisfaction of the CDC and ATSDR Internet Home Page and Links.” Having our own survey would allow us to tailor the survey to our needs, manage the project effectively, and ensure that we collect the necessary information to evaluate customer satisfaction of our Web site. The 2003 reinstatement request was further modified by our most recent I-83c submission adding five replicate product-specific surveys to the OMB 0923-0028 inventory for this project. ATSDR is requesting an extension without change for the following surveys:

• ATSDR Web Site User Satisfaction Survey (WSUS)

• Toxicological Profiles User Satisfaction Survey (TPUS)

• ToxFAQs™ User Satisfaction Survey (TFUS)

• Public Health Statements User Satisfaction Survey (PHSUS)

• Toxicology Curriculum for Communities Training Manual User Satisfaction Survey (TCCUS)

• ToxProfiles™ CD-ROM User Satisfaction Survey (TP-CDUS)

ATSDR has designed this site to serve the general-public, persons at risk for exposure to hazardous substances, collaborating organizations, state and local governments, and health professionals. As a “Support Delivery of Services” tool, the ATSDR Web site presents information focused on prevention of exposure and adverse human health effects and diminished quality of life associated with exposure to hazardous substances from waste sites, unplanned releases, and other sources of pollution present in the environment. Furthermore, as a Web based delivery tool it advances the agencies health promotional messages, product outreach activities, and future survey options currently under consideration. Therefore, it is critical that ATSDR have the capacity to answer whether or not these expenditures elicit the desired effects or impact. The results of this project will ensure that these audiences will continue to find our knowledge products and informational pieces easy to access, clear, informative and useful. Specifically, this project will continue to examine whether current and future informational updates are presented in an appropriate technological format and whether it meets the needs, wants, and preferences of visitors (“customers”) to the ATSDR Web site.

This extension request is for a three-year period. The survey questions have been held to the absolute minimum required for the use of the data. There are no costs to the respondents other than their time.

Estimate of Annualized Burden Hours:

Respondents & percent of form name use | Form name | Number of respondents | Number of responses per respondent | Average burden per response (in hours) | Total burden (in hours)
ATSDR Web site Visitors (50%) | WSUS | 1,000 | 1 | 5/60 | 83
ATSDR Web site Visitors (15%) | TPUS | 300 | 1 | 5/60 | 25
ATSDR Web site Visitors (15%) | TFUS | 300 | 1 | 5/60 | 25
ATSDR Web site Visitors (5%) | PHSUS | 100 | 1 | 5/60 | 8
ATSDR Web site Visitors (8%) | TCCUS | 160 | 1 | 5/60 | 13
ATSDR Web site Visitors (7%) | TP-CDUS | 140 | 1 | 5/60 | 12
Total |  |  |  |  | 166

Dated: December 14, 2006.
Joan F. Karr,
Acting Reports Clearance Officer, Centers for Disease Control and Prevention.

[FR Doc. E6-21718 Filed 12-19-06; 8:45 am]

BILLING CODE 4163-18-P